DEPARTMENT OF THE TREASURY

Agency Information Collection Activities; Submission for OMB Review; Comment Request; Regulation Agency Protests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before April 30, 2020 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Departmental Offices (DO)

Title: Regulation Agency Protests.

OMB Control Number: 1505-0107.

Type of Review: Extension without change of a currently approved collection.

Description: Information is requested of contractors so that the Government will be able to evaluate protests effectively and provide prompt resolution of issues in dispute when contractors file protests.

Form: None.

Affected Public: Businesses or other for-profits.

Estimated Number of Respondents: Five.

Frequency of Response: On occasion.

Estimated Total Number of Annual Responses: Five.

Estimated Time per Response: Two hours.

Estimated Total Annual Burden Hours: Ten.

Authority: 44 U.S.C. 3501 et seq.

Dated: March 26, 2020.
Spencer W. Clark,
Treasury PRA Clearance Officer.

[FR Doc. 2020-06643 Filed 3-30-20; 8:45 am]

BILLING CODE 4810-25-P